GENERAL SERVICES ADMINISTRATION

[OMB Control No. 3090-0280]

General Services Administration Acquisition Regulation; Information Collection; Tax Adjustment Clause 552.270-30

AGENCY: Office of the Chief Acquisition Officer, General Services Administration (GSA).

ACTION: Notice of request for comments regarding a renewal to an existing OMB clearance.

SUMMARY: Under the provisions of the Paperwork Reduction Act of 1995 (44 U.S.C. Chapter 35), the General Services Administration will be submitting to the Office of Management and Budget (OMB) a request to review and approve a renewal of a currently approved information collection requirement regarding tax adjustments under leasehold acquisitions. This collection requires contractors to submit information to the Government to substantiate an increase or decrease in real estate taxes under a leasehold acquisition so that the Government can make tax adjustments as necessary to the leasehold acquisition. Information collected under this authority is necessary to assess proper tax adjustments against each leasehold acquisition. The clearance currently expires on April 30, 2009.

Public comments are particularly invited on: Whether the proposed collection of information is necessary for the proper performance of the function of the agency, including whether the information shall have practical utility; the accuracy of the agency’s estimate of the burden of the proposed information collection; ways to enhance the quality, utility, and clarity of the information to be collected; ways to minimize the burden of the information collection on respondents including through the use of automated collection techniques or other forms of information technology.

DATES: Submit comments on or before February 17, 2009.

FOR FURTHER INFORMATION CONTACT: Edward Chambers, Procurement Analyst, Contract Policy Division, GSA (202) 501-3221.

ADDRESSES: Submit comments regarding this burden estimate or any other aspect of this collection of information, including suggestions for reducing this burden to the Regulatory Secretariat (VPR), General Services Administration, Room 4041 1800 F Street, NW., Washington, DC 20405. Please cite OMB Control No. 3090-0280, Tax Adjustment Clause 552.270-30, in all correspondence.

SUPPLEMENTARY INFORMATION:

A. Purpose

The General Services Administration (GSA) has various mission responsibilities related to the acquisition and provision supply, service, and leasehold acquisitions. These mission responsibilities generate requirements that are realized through the solicitation and award of various types of contracts. Individual solicitations and resulting contracts may impose unique information collection and reporting requirements on contractors, not required by regulation, but necessary to evaluate particular program accomplishments, measure success in meeting program objectives, or adjust acquisition requirements. Leasehold acquisitions provide for real estate tax adjustments due to changes in real estate taxes on land and buildings occupied by the Government. In a leasehold acquisition, the lessor shall provide the following information regarding real estate taxes: (1) Any notice which may affect the valuation of land and buildings covered by this lease for real estate tax purposes; (2) Any notice of a tax credit or tax refund related to land and buildings covered by this lease; and (3) Each tax bill related to land and building covered by this lease. The lessor is also required to provide the contracting officer a proper invoice including evidence of payment to receive the tax adjustment. Depending on the leasehold acquisition, the tax adjustment can result in either the lessor receiving a credit or the Government receiving a credit.

B. Annual Reporting Burden.

Respondents: 7041.

Responses Per Respondent: 1.

Total Responses: 7041.

Hours Per Response: 6.

Total Burden Hours: 42,246.

Obtaining copies of proposals: Requesters may obtain a copy of the information collection documents from the General Services Administration, Regulatory Secretariat (VPR), 1800 F Street, NW., Room 4041, Washington, DC 20405, telephone (202) 501-4755. Please cite OMB Control No. 3090-0280, Tax Adjustment Clause 552.270-30, in all correspondence.

Dated: December 10, 2008.
Al Matera,
Director,Contract Policy Division.

[FR Doc. E8-30016 Filed 12-18-08; 8:45 am]

BILLING CODE 6820-61-S